NATIONAL SCIENCE FOUNDATION

Advisory Committee for International Science and Engineering; Notice of Meeting

In accordance with the Federal Advisory Committee Act (Pub. L. 92-463, as amended), the National Science Foundation announces the following meeting:

Name: Advisory Committee for International Science and Engineering (#25104).

Date & Time: January 21, 2016, 8:00 a.m. to 5:15 p.m.; January 22, 2016, 9:00 a.m. to 12:30 p.m.

Place: National Science Foundation, 4201 Wilson Boulevard, Stafford II, Suite 1155, Arlington, Virginia 22230.

To facilitate entry into the building, contact Diane Drew (ddrew@nsf.gov). Your request should be received on or prior to January 19, 2016.

Type of Meeting: OPEN.

Contact Person: Rebecca Keiser, Head, Office of International Science and Engineering, National Science Foundation, 4201 Wilson Boulevard, Stafford II, Suite 1155, Arlington, Virginia 22230; 703-292-7727.

Purpose of Meeting: To provide advice and recommendations concerning support for research, education and related activities involving the U.S. science and engineering community working in a global context as well as strategic efforts to promote a more effective NSF role in international science and engineering.

Agenda

Thursday, January 21, 2016, 8:00 a.m.-5:15 p.m.

Welcome and Opening Remarks

Minutes from March 2015 meeting

Overview of International Science and Engineering (OISE)

FACA Briefing

Realignment and Hiring Update

Strategic Framework and Strategic Directions for International Science and Engineering

Evaluation of NSF's PIRE Program

Meeting with France Córdova, NSF Director, & Richard Buckius, Chief Operating Officer

Subcommittee Planning

Friday, January 22, 2016, 9:00 a.m.-12:30 p.m.

Subcommittee Planning (continued)

Overseas Offices Discussion

Roundtable with NSF Assistant Directors

Update from Committee on Equal Opportunities in Science and Engineering

Closing Remarks and Wrap Up

Dated: December 18, 2015.
Crystal Robinson,
Committee Management Officer.

[FR Doc. 2015-32314 Filed 12-22-15; 8:45 am]

BILLING CODE 7555-01-P